DEPARTMENT OF JUSTICE

Antitrust Division

Granting of Requests for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register. The following transactions were granted early termination—on the date indicated—of the waiting period provided by law and the premerger notification rules. The listing includes the transaction number and the parties to the transaction. The Federal Trade Commission and the Assistant Attorney General for the Antitrust Division of the Department of Justice made the grants. Neither agency intends to take any action with respect to this proposed acquisitions during the applicable waiting period.

Early Termination Granted
10/05/2021
20210814 | G | Wienerberger AG; General Shale Brick, Inc.; Boral Limited; LSF9 Stardust Super Holdings, L.P.; Meridian Brick LLC.
20210815 | G | Wienerberger AG; General Shale Brick, Inc.; Boral Limited; LSF9 Stardust Super Holdings, L.P.; Meridian Brick LLC.
10/08/2021
20212025 | G | Gray Television, Inc.; Meredith Corporation.
10/12/2024
20211339 | G | VEPF Torreys Aggregator, LLC; ClassPass Inc.
10/19/2021
20211210 | G | Neenah Enterprises, Inc.; Neenah Foundry Company; Alex Lane DeBogory; U.S. Holdings, Inc.; United States Foundry & Manufacturing Corporation; Eagle Metal Processing and Recycling, Inc.

Suzanne Morris,
Chief, Premerger and Division Statistics, Antitrust Division, Department of Justice.

[FR Doc. 2021-23131 Filed 10-22-21; 8:45 am]

BILLING CODE 4410-11-P